DEPARTMENT OF ENERGY

Federal Energy Regulatory Commission

Notice of Draft License Application and Preliminary Draft Environmental Assessment and Request for Preliminary Terms and Conditions

October 2, 2003.

Take notice that the following hydroelectric application has been filed with the Commission and is available for public inspection.

a. Type of Application: New Major License.

b. Project No.: P-2150-026.

c. Date Filed: October 1, 2003.

d. Applicant: Puget Sound Energy, Inc.

e. Name of Project: Baker River Hydroelectric Project.

f. Location: On the Baker River, near the Town of Concrete, in Whatcom and Skagit Counties, Washington. The project occupies about 5,168.5 acres of lands within the Mt. Baker-Snoqualmie National Forest managed by the U.S. Forest Service.

g. Filed Pursuant to: Federal Power Act 16 U.S.C. 791(a)-825(r).

h. Applicant Contact: Connie Freeland, Puget Sound Energy, Inc. P.O. Box 97034 PSE-09S Bellevue, WA 98009-9734; (425) 462-3556 or connie.freeland@pse.com.

i. FERC Contact: Steve Hocking, Federal Energy Regulatory Commission, 888 First Street, NE., Washington, DC 20426; (202) 502-8753 or steve.hocking@ferc.gov.

j. Status of Project: With this notice the Commission is soliciting (1) preliminary terms, conditions, and recommendations on the Preliminary Draft Environmental Assessment (PDEA), and (2) comments on the Draft License Application.

k. Deadline for filing: January 2, 2004.

All comments on the PDEA and Draft License Application should be sent to the addresses noted above in Item (h), with one copy filed with FERC at the following address: Magalie R. Salas, Secretary, Federal Energy Regulatory Commission, 888 First Street, NE., Washington, DC 20426. All comments must include the project name and number and bear the heading Preliminary Comments, Preliminary Recommendations, Preliminary Terms and Conditions, or Preliminary Prescriptions.

Comments and preliminary recommendations, terms and conditions, and prescriptions may be filed electronically via the Internet in lieu of paper. The Commission strongly encourages electronic filings. See 18 CFR 385.2001(a)(1)(iii) and the instructions on the Commission's Web site (http://www.ferc.gov) under the “e-Filing” link.

l. A copy of the application is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659.

You may also register online at http://www.ferc.gov/esubscribenow.htm to be notified via email of new filings and issuances related to this or other pending projects. For assistance, contact FERC Online Support.

Puget Sound Energy, Inc. has mailed copies of the PDEA and Draft License Application to interested entities and parties. Additional copies may be obtained from the contact person listed in item (h) above.

m. With this notice, we are initiating consultation with the Washington State Historic Preservation Officer as required by Section 106 of National Historic Preservation Act and the regulations of the Advisory Council on Historic Preservation, 36 CFR 800.4.

Magalie R. Salas,
Secretary.

[FR Doc. E3-00009 Filed 10-8-03; 8:45 am]

BILLING CODE 6717-01-P